OFFICE OF PERSONNEL MANAGEMENT

Hispanic Council on Federal Employment

AGENCY: Office of Personnel Management.

ACTION: Scheduling of council meetings.

SUMMARY: The Hispanic Council on Federal Employment will hold its 2014 Council meetings on the dates and location shown below. The Council is an advisory committee composed of representatives from Hispanic organizations and senior government officials. Along with its other responsibilities, the Council shall advise the Director of the Office of Personnel Management on matters involving the recruitment, hiring, and advancement of Hispanics in the Federal workforce. The Council is co-chaired by the Chief of Staff of the Office of Personnel Management and the Chair of the National Hispanic Leadership Agenda (NHLA).

The meeting is open to the public. Please contact the Office of Personnel Management at the address shown below if you wish to present material to the Council at any of the meetings. The manner and time prescribed for presentations may be limited, depending upon the number of parties that express interest in presenting information.

DATES:

February 27, 2014 from 2 p.m.-4 p.m.

April 17, 2014 from 2 p.m.-4 p.m.

June 19, 2014 from 2 p.m.-4 p.m.

August 21, 2014 from 2 p.m.-4 p.m.

October 16, 2014 from 2 p.m.-4 p.m.

December 19, 2014 from 10 a.m.-12 p.m.

Location: U.S. Office of Personnel Management, 1900 E St. NW., Washington, DC 20415.

FOR FURTHER INFORMATION CONTACT: Veronica E. Villalobos, Director for the Office of Diversity and Inclusion, Office of Personnel Management, 1900 E St. NW., Suite 5H35, Washington, DC 20415. Phone (202) 606-0020 FAX (202) 606-6042 or email at veronica.villalobos@opm.gov.

U.S. Office of Personnel Management.
Katherine Archuleta,
Director.

[FR Doc. 2014-02989 Filed 2-11-14; 8:45 am]

BILLING CODE 6325-B2-P